DEPARTMENT OF COMMERCE

Foreign-Trade Zones Board

[B-13-2020]

Foreign-Trade Zone (FTZ) 124—Gramercy, Louisiana; Authorization of Production Activity; Offshore Energy Services, Inc.; (Line Pipe With Weld-On Housings and Connectors); Broussard, Louisiana

On March 5, 2020, the Port of South Louisiana, grantee of FTZ 124, submitted a notification of proposed production activity to the FTZ Board on behalf of Offshore Energy Services, Inc., within Subzone 124T, in Broussard, Louisiana.

The notification was processed in accordance with the regulations of the FTZ Board (15 CFR part 400), including notice in the Federal Register inviting public comment (85 FR 14460, March 12, 2020). On July 6, 2020, the applicant was notified of the FTZ Board's decision that no further review of the activity is warranted at this time. The production activity described in the notification was authorized, subject to the FTZ Act and the FTZ Board's regulations, including Section 400.14.

Dated: July 6, 2020.
Andrew McGilvray,
Executive Secretary.

[FR Doc. 2020-14800 Filed 7-8-20; 8:45 am]

BILLING CODE 3510-DS-P